ENVIRONMENTAL PROTECTION AGENCY

40 CFR Part 52

[R05-OAR-2004-OH-0003; FRL-7883-4]

Approval and Promulgation of Air Quality Implementation Plans; Ohio; Withdrawal of Direct Final Rule

AGENCY: Environmental Protection Agency (EPA).

ACTION: Withdrawal of direct final rule.

SUMMARY: Due to the receipt of adverse comments the EPA is withdrawing the January 19, 2005 (70 FR 2954), direct final rule approving a revision to Ohio's Oxides of Nitrogen (NOX) State Implementation Plan (SIP). The State of Ohio submitted this revision as a change to the SIP for NOX on June 28, 2004. In the direct final rule, EPA stated that if adverse comments were submitted by February 19, 2005, the rule would be withdrawn and not take effect. On February 18, 2005, EPA received a comment from a citizen and from the State of Ohio. EPA believes the comments are adverse and, therefore, EPA is withdrawing the direct final rule. EPA will address the comments in a subsequent final action based upon the proposed action also published on January 19, 2005 (70 FR 2992). EPA will not institute a second comment period on this action.

DATES: The direct final rule published at 70 FR 2954 on January 19, 2005, is withdrawn as of March 14, 2005.

FOR FURTHER INFORMATION CONTACT: John Paskevicz, Engineer, Criteria Pollutant Section, Air Programs Branch (AR-18J), U.S. Environmental Protection Agency, Region 5, 77 West Jackson Boulevard, Chicago, Illinois 60604, Telephone: (312) 886-6084. e-mail address: paskevicz.john@epa.gov.

List of Subjects in 40 CFR Part 52

Environmental protection, Air pollution control, Incorporation by reference, Intergovernmental relations, Nitrogen dioxide, Reporting and recordkeeping requirements.

Authority: 42 U.S.C. 7401 et seq.

Dated: March 1, 2005.
Norman Niedergang,
Acting Regional Administrator, Region 5.

PART 52—[AMENDED]

Accordingly, the amendment to 40 CFR 52.1870 published in the Federal Register on January 19, 2005 (70 FR 2954) on pages 2954—2959 are withdrawn as of March 14, 2005.

[FR Doc. 05-4899 Filed 3-11-05; 8:45 am]

BILLING CODE 6560-50-P